DEPARTMENT OF TRANSPORTATION

Federal Transit Administration

Fiscal Year 2013 and 2014 Passenger Ferry Grant Program Project Selections

AGENCY: Federal Transit Administration (FTA), DOT.

ACTION: Passenger Ferry Grant Program Announcement of Project Selections.

SUMMARY: The US. Department of Transportation's (DOT) Federal Transit Administration (FTA) announces the selection of projects with Fiscal Year (FY) 2013 and FY 2014 appropriations for the Passenger Ferry Grant Program (Ferry Program). The Moving Ahead for Progress in the 21st Century Act (MAP-21) set forth a new discretionary Ferry Program as a take-down under the Section 5307 Urbanized Area Formula Grants Program, 49 U.S.C. § 5307, that authorized a combined total of $60 million for discretionary allocations in FY 2013 and FY 2014. The across-the-board rescission enacted by Congress in the FY 2013 Continuing Resolution reduced the available amount for the program in FY 2013 to approximately $29.9 million; this amount, combined with the FY 2014 apportionment of $30 million, provided a total of approximately $59.9 million for this program. On August 21, 2013, FTA published a Notice of Funding availability (NOFA) (78 FR 51812) announcing the availability of funding for this program. These program dollars will provide financial assistance to purchase, replace, or rehabilitate ferries, terminals and related infrastructure and other eligible capital project costs.

FOR FURTHER INFORMATION CONTACT: Successful applicants should contact the appropriate FTA Regional Office for information regarding applying for the funds or program-specific information. A list of Regional Offices can be found at www.fta.dot.gov. Unsuccessful applicants may contact Vanessa Williams, Office of Program Management at (202) 366-4818, email: Vanessa.williams@dot.gov, to arrange a proposal debriefing within 30 days of this announcement. A TDD is available at 1-800-877-8339 (TDD/FIRS).

SUPPLEMENTARY INFORMATION: In response to the NOFA, FTA received 31 proposals from 15 States plus Puerto Rico requesting $115.8 million in Federal funds. Project proposals were evaluated based on each applicant's responsiveness to the program evaluation criteria as detailed in the NOFA. FTA is funding 26 projects as shown in Table 1 for a total of $59.9 million. Grantees selected for competitive discretionary funding should work with their FTA Regional Office to finalize the grant application in FTA's Transportation Electronic Awards Management System (TEAM) so that funds can be obligated expeditiously. Grant applications must only include eligible activities applied for in the original project application. Funds must be used consistent with the competitive proposal and for the eligible purposes established in the NOFA and described in the FTA Circular 9030.1E. In cases where the allocation amount is less than the proposer's requested amount, grantees should work with the Regional Office to reduce scope or scale the project such that a complete phase or project is accomplished. Grantees are reminded that program requirements such as cost sharing or local match can be found in the NOFA. A discretionary project identification number has been assigned to each project for tracking purposes and must be used in the TEAM application. Selected projects are eligible for pre-award authority no earlier than June 2, 2014. Pre-award authority is also contingent upon other requirements, such as planning and environmental requirements, having been met. For more about FTA's policy on pre-award authority, please see the FTA Fiscal Year 2014 Apportionments, Allocations, and Program notice found in 77 FR 13461 (March 10, 2014). Post-award reporting requirements include submission of the Federal Financial Report and Milestone reports in TEAM as appropriate (see FTA.C.5010.1D and C9030.1E). The grantees must comply with all applicable Federal statutes, regulations, executive orders, FTA circulars, and other Federal requirements in carrying out the project supported by the FTA grant. FTA emphasizes that grantees must follow all third-party procurement guidance, as described in FTA.C.4220.1F. Funds allocated in this announcement must be obligated in a grant by September 30, 2019.

Issued in Washington, DC, this 16th day of July, 2014.
Therese McMillan,
Deputy Administrator.

BILLING CODE P

[FR Doc. 2014-17248 Filed 7-21-14; 8:45 am]

BILLING CODE C